DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. Their applications have been separated from the new application for special permits to facilitate processing.

DATES: Comments must be received on or before May 7, 2008.

Address Comments to: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SE., Washington DC or at http://dms.dot.gov.

This notice of receipt of applications for modification of special permit is published in accordance with Part 107 of the Federal hazardous materials transportation law (49 U.S.C. 5117(b); 49 CFR 1.53(b)).

Issued in Washington, DC, on April 14, 2008.
Delmer F. Billings,
Director, Office of Hazardous Materials, Special Permits and Approvals.

Modification Special Permits
Application No. | Docket No. | Applicant | Regulation(s) affected | Nature of special permit thereof
8495-M |  | Kidde Aerospace, Wilson, NC | 49 CFR 173.304(a)(1); 178.47; 175.3 | To modify the special permit to authorizethe use of stainless steel in the manufacture of pressure vessels
12412-M | RSPA006827 | Maumee Valley Bottlers, Inc., Napoleon, OH | 49 CFR 177.834(h); 172.203(a); 172.302(c) | To modify the special permit to authorize the transportation in commerce of IBCs equipped with pressure hoses without draining those hoses
13583-M | RSPA0418507 | Structural Composites Industries, Pomona, CA | 49 CFR 178.35 | To modify the special permit to authorize an alternative pressure test
14562-M | PI-11MSA080046 | The Lite Cylinder Company, Franklin, TN | 49 CFR 173.304a(a) | To modify the special permit to authorize an increase in the water capacity of Lite's cylinders and to authorize an alternative drop test

[FR Doc. E8-8439 Filed 4-21-08; 8:45 am]

BILLING CODE 4909-60-M